DEPARTMENT OF ENERGY

Federal Energy Regulatory Commission

[Docket No. PR01-8-000]

Arkansas Oklahoma Gas Corporation; Notice of Petition for Rate Approval

February 26, 2001.

Take notice that on January 31, 2001, Arkansas Oklahoma Gas Corporation (AOG), filed pursuant to sections 284.224(e)(1) and 284.123(b)(2) of the Commission regulations, 18 CFR 284.224(e)(1) and 284.123(b)(2), and pursuant to the Commission's order, issued July 18, 1995 in Docket No. RP98-6-000, a petition for approval to maintain its existing maximum rate of $0.2329 per MMBtu, plus 2.766 percent for company use and lost and unaccounted for gas, applicable to all of AOG's existing and future transportation services provided under its Order No. 63 blanket certificate, all as more fully described in the petition filed therewith which are on file with the Commission and open to public inspection.

AOG states it is proposing to maintain its existing rates; it is not proposing to change the rates actually being charges in its existing Order No. 63 blanket certificate transportation arrangements. AOG states that it is only seeking to maintain the existing ceiling rate up to which AOG and its transportation customers may agree upon in any future negotiations.

Pursuant to section 284.123(b)(2)(ii), if the Commission does not act within 150 days of the filing date of AOG's Petition, AOG's rates for firm and interruptible storage services will be deemed to be fair and equitable. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before March 12, 2001. This petition for rate approval is on file with the Commission and is available for public inspection. This filing may be viewed on the web at http://www.ferc.fed.us/online/rimshtm (call 202-208-2222 for assistance). Comments and protests may be filed electronically via the internet in lieu of paper. See, 18 CFR 385.200(a)(1)(iii) and the instruction on the Commission's web site at http://www.ferc.fed.us.efi/doorbell.htm.

David P. Boergers,
Secretary.

[FR Doc. 01-5106 Filed 3-1-01; 8:45 am]

BILLING CODE 6717-01-M